DEPARTMENT OF COMMERCE

National Oceanic and Atmospheric Administration

[RTID 0648-XC250]

Marine Mammals; File No. 26622

AGENCY: National Marine Fisheries Service (NMFS), National Oceanic and Atmospheric Administration (NOAA), Commerce.

ACTION: Notice; receipt of application.

SUMMARY: Notice is hereby given that Randall Wells, Ph.D., Chicago Zoological Society's Sarasota Dolphin Research Program, c/o Mote Marine Laboratory, 1600 Ken Thompson Parkway, Sarasota, FL 34236, has applied in due form for a permit to conduct research on bottlenose dolphins (Tursiops truncatus) and Atlantic spotted dolphins (Stenella frontalis).

DATES: Written, telefaxed, or email comments must be received on or before September 7, 2022.

ADDRESSES: The application and related documents are available for review by selecting “Records Open for Public Comment” from the “Features” box on the Applications and Permits for Protected Species (APPS) home page, https://apps.nmfs.noaa.gov, and then selecting File No. 26622 from the list of available applications. These documents are also available upon written request via email to NMFS.Pr1Comments@noaa.gov.

Written comments on this application should be submitted via email to NMFS.Pr1Comments@noaa.gov. Please include File No. 26622 in the subject line of the email comment.

Those individuals requesting a public hearing should submit a written request via email to NMFS.Pr1Comments@noaa.gov. The request should set forth the specific reasons why a hearing on this application would be appropriate.

FOR FURTHER INFORMATION CONTACT: Shasta McClenahan, Ph.D., or Amy Hapeman, (301) 427-8401.

SUPPLEMENTARY INFORMATION: The subject permit is requested under the authority of the Marine Mammal Protection Act of 1972, as amended (MMPA; 16 U.S.C. 1361 et seq.), and the regulations governing the taking and importing of marine mammals (50 CFR part 216).

The applicant requests a 5 year permit to continue conservation research on dolphins in Florida to study health, environmental contaminants, reproduction, population structure and dynamics, acoustics, bioenergetics, trophic patterns human interactions, telemetry, ranging patterns, and behavior. Up to 10,000 bottlenose dolphins and 1,000 spotted dolphins may be taken annually during vessel surveys, including an unmanned aircraft system, for counts, photography, photo-identification, photogrammetry, video recording, observations, acoustic playbacks, and passive acoustic recording. A subset of these animals may be remotely biopsy sampled, suction-cup tagged, or bolt/pin tagged annually. Up to 50 bottlenose and 25 spotted dolphins of the above animals may be captured annually for health assessments to include biological sampling, auditory brainstem response tests, metabolic rate studies, ultrasound, X-rays, marking, tagging, release, and tracking. Two unintentional mortalities of each dolphin species may occur due to capture over the life of the permit. Biological samples collected may be imported and exported annually for analysis. The following non-target species may be unintentionally harassed during research: green sea turtle (Chelonia mydas), hawksbill sea turtle (Eretmochelys imbricata), Kemp's ridley sea turtle (Lepidochelys kempii), loggerhead sea turtle (Caretta caretta), olive ridley sea turtle (L. olivacea), leatherback sea turtle (Dermochelys coriacea), smalltooth sawfish (Pristis pectinata), and gulf sturgeon (Acipenser oxyrinchus desotoi).

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: August 3, 2022.
Julia M. Harrison,
Chief, Permits and Conservation Division, Office of Protected Resources, National Marine Fisheries Service.

[FR Doc. 2022-16955 Filed 8-5-22; 8:45 am]

BILLING CODE 3510-22-P